DEPARTMENT OF THE INTERIOR

Fish and Wildlife Service

50 CFR Part 17

[Docket Nos. FWS-R6-ES-2011-0111; FWS-R6-ES-2012-0108; 4500030114]

RIN 1018-AZ20; RIN 1018-AX71

Endangered and Threatened Wildlife and Plants; Proposed Endangered Status for Gunnison Sage-Grouse and Proposed Designation of Critical Habitat for Gunnison Sage-Grouse

AGENCY: Fish and Wildlife Service, Interior.

ACTION: Proposed rule; reopening of comment period; announcement of public hearings.

SUMMARY: We, the U.S. Fish and Wildlife Service (Service), announce the reopening of the public comment periods on our January 11, 2013, proposed rules to list the Gunnison sage-grouse (Centrocercus minimus) as endangered and to designate critical habitat for the species under the Endangered Species Act of 1973, as amended (Act). In addition, we announce the rescheduling of two public informational sessions and public hearings for both the proposed listing and proposed critical habitat rules, and the addition of a third public informational session and public hearing. We are reopening the comment periods to allow all interested parties an additional opportunity to comment on the proposed listing and the proposed designation of critical habitat, and to comment on the proposed critical habitat's associated draft economic analysis (DEA), draft environmental assessment (EA), and amended required determinations section. Comments previously submitted need not be resubmitted, as they will be fully considered in preparation of the final rules.

DATES: Comment submission: We will consider comments received or postmarked on or before December 2, 2013. Comments submitted electronically using the Federal eRulemaking Portal (see ADDRESSES section, below) must be received by 11:59 p.m. Eastern Time on the closing date.

Public informational sessions and public hearings: We will hold three public informational sessions followed by public hearings on the following dates:

• November 19, 2013, from 4:00-9:00 p.m., including an information session from 4:00-5:00 p.m., a break, and a public hearing from 6:00-9:00 p.m.; and

• November 20, 2013, from 4:00-9:00 p.m., including an information session from 4:00-5:00 p.m., a break, and a public hearing from 6:00-9:00 p.m.; and

• November 21, 2013, from 4:00-9:00 p.m., including an information session from 4:00-5:00 p.m., a break, and a public hearing from 6:00-9:00 p.m.

See the ADDRESSES section, below, for information on where these public informational sessions and public hearings will be held.

ADDRESSES: Document availability: You may obtain copies of the January 11, 2013, proposed rules on the Internet at http://www.regulations.gov at Docket No. FWS-R6-ES-2012-0108 for the proposed listing, and at Docket No. FWS-R6-ES-2011-0111 for the proposed designation of critical habitat. You may obtain a copy of the draft economic analysis and the draft environmental assessment at Docket No. FWS-R6-ES-2011-0111. Alternately, you may obtain a copy of either proposed rule, the draft economic analysis, or the draft environmental assessment at http://www.fws.gov/mountain-prairie/species/birds/gunnisonsagegrouse/ or by mail from the Western Colorado Field Office (see FOR FURTHER INFORMATION CONTACT).

Comment submission: You may submit written comments by one of the following methods:

(1) Electronically: Go to the Federal eRulemaking Portal: http://www.regulations.gov. Submit comments on the listing proposal to Docket No. FWS-R6-ES-2012-0108, and submit comments on the critical habitat proposal and associated draft economic analysis and draft environmental assessment to Docket No. FWS-R6-ES-2011-0111.

(2) By hard copy: Submit comments on the listing proposal by U.S. mail or hand-delivery to: Public Comments Processing, Attn: FWS-R6-ES-2012-0108; Division of Policy and Directives Management; U.S. Fish and Wildlife Service; 4401 N. Fairfax Drive, MS 2042-PDM; Arlington, VA 22203. Submit comments on the critical habitat proposal, draft economic analysis, and draft environmental assessment by U.S. mail or hand-delivery to: Public Comments Processing, Attn: FWS-R6-ES-2011-0111; Division of Policy and Directives Management; U.S. Fish and Wildlife Service; 4401 N. Fairfax Drive, MS 2042-PDM; Arlington, VA 22203.

We request that you send comments only by the methods described above. We will post all comments on http://www.regulations.gov. This generally means that we will post any personal information you provide us (see the Public Comments section below for more information).

Public informational sessions and public hearings:

The November 19, 2013, public informational session and public hearing will be held at Western State Colorado University, University Center, 600 N. Adams Street in Gunnison, Colorado.

The November 20, 2013, public informational session and public hearing will be held at the Holiday Inn Express, 1391 S. Townsend Avenue in Montrose, Colorado.

The November 21, 2013, public informational session and public hearing will be held at Monticello High School Auditorium, 164 South 200 West in Monticello, Utah.

People needing reasonable accommodations in order to attend and participate in the public hearing should contact Patty Gelatt, Western Colorado Supervisor, Western Colorado Field Office, as soon as possible (see FOR FURTHER INFORMATION CONTACT).

FOR FURTHER INFORMATION CONTACT: Patty Gelatt, Western Colorado Supervisor, U.S. Fish and Wildlife Service, Western Colorado Field Office, 764 Horizon Drive, Building B, Grand Junction, CO 81506-3946; by telephone (970-243-2778); or by facsimile (970-245-6933). Persons who use a telecommunications device for the deaf (TDD) may call the Federal Information Relay Service (FIRS) at 800-877-8339.

SUPPLEMENTARY INFORMATION:

Background

Previous Federal Actions

On January 11, 2013, we published a proposed rule to list the Gunnison sage-grouse as endangered (78 FR 2486) and a proposed rule to designate critical habitat for the Gunnison sage-grouse (78 FR 2540). We proposed to designate as critical habitat approximately 1,704,227 acres (689,675 hectares) in seven units located in Chaffee, Delta, Dolores, Gunnison, Hinsdale, Mesa, Montrose, Ouray, Saguache, and San Miguel Counties in Colorado, and in Grand and San Juan Counties in Utah. Those proposals initially had a 60-day comment period, ending March 12, 2013, but we extended the comment period by an additional 21 days, through April 2, 2013 (78 FR 15925, March 13, 2013). On July 19, 2013, we published a document announcing that we were extending the timeline for making final determinations on both proposed rules by 6 months due to scientific disagreement, and we reopened the public comment period to seek additional information to clarify the issues in question (78 FR 43123). In accordance with that July 19, 2013, publication, we will submit for publication in the Federal Register a final listing determination and a final critical habitat designation for Gunnison sage-grouse on or before March 31, 2014.

On September 19, 2013, we reopened the comment period on these proposals for 30 days, and announced the availability of a DEA, a draft EA, and an amended required determinations section for our proposal to designate critical habitat for the Gunnison sage-grouse (78 FR 57604). In that document, we also announced two public information sessions and public hearings to be held in Gunnison, Colorado, and Monticello, Utah, on October 7 and 8, 2013. However, due to a lapse in government appropriations from October 1-16, 2013, these meetings and hearings were postponed. Therefore, this document serves to reschedule those meetings and public hearings, add an additional meeting and public hearing, and reopen the public comment period.

Public Comments

We will accept written comments and information during this comment period on: (1) Our proposed listing determination for the Gunnison sage-grouse that published in the Federal Register on January 11, 2013 (78 FR 2486); (2) our proposed designation of critical habitat for the Gunnison sage-grouse that published in the Federal Register on January 11, 2013 (78 FR 2540); (3) our DEA of the proposed critical habitat designation, which was made available on September 19, 2013 (78 FR 57604); (4) our draft EA of the proposed critical habitat designation, which was made available on September 19, 2013 (78 FR 57604); (5) the amended required determinations provided in our September 19, 2013, Federal Register document (78 FR 57604) for the proposed critical habitat designation; and (6) the issues raised in our July 19, 2013, Federal Register publication (78 FR 43123) regarding scientific disagreement about the species. We will consider information and recommendations from all interested parties.

We request that you provide comments specifically on our listing determination under Docket No. FWS-R6-ES-2012-0108.

We request that you provide comments specifically on the critical habitat determination and related DEA and draft EA under Docket No. FWS-R6-ES-2011-0111.

For additional details on specific information we are requesting during this public comment period, please see the Public Comments section in our September 19, 2013, Federal Register document (78 FR 57604), which reopened the previous comment period.

Authors

The primary authors of this document are the staff members of the Regional Office and Western Colorado Field Office, Mountain-Prairie Region, U.S. Fish and Wildlife Service.

Authority

The authority for this action is the Endangered Species Act of 1973, as amended (16 U.S.C. 1531 et seq.).

Dated: October 28, 2013.
Rachel Jacobsen,
Principal Deputy Assistant Secretary for Fish and Wildlife and Parks.

[FR Doc. 2013-26332 Filed 11-1-13; 8:45 am]

BILLING CODE 4310-55-P